ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Wednesday, July 15, 2015. The meeting will be held in Room SR325 at the Russell Senate Office Building at Constitution and Delaware Avenues NE., Washington, DC, starting at 9:00 a.m. DST.

DATES: The quarterly meeting will take place on Wednesday, July 15, 2015, starting at 9:00 a.m. DST.

ADDRESSES: The meeting will be held in Room SR325 at the Russell Senate Office Building at Constitution and Delaware Avenues NE., Washington, DC.

FOR FURTHER INFORMATION CONTACT: Cindy Bienvenue, 202-517-0202, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into federal project requirements. For more information on the ACHP, please visit our Web site at www.achp.gov.

The agenda for the upcoming quarterly meeting of the ACHP is the following:

Call to Order—9:00 a.m.

I. Chairman's Welcome

II. Swearing in Ceremony

III. Section 106 Issues

A. Federal Agency Support for SHPOs and THPOs

B. Amending ACHP Program Comment on Communication Facilities

IV. Historic Preservation Policy and Programs

A. Building a More Inclusive Preservation Program

1. Asian-American Pacific Islander Initiative

2. American Latino Heritage Initiative

3. ACHP Youth Initiatives

B. Preservation 50

1. ACHP Public Policy Initiative.

2. ACHP 50th Anniversary Retrospective

C. Historic Preservation Legislation in the 114th Congress

1. Policy for Adoption of ACHP Legislative Positions

2. ACHP Legislative Agenda-H.R. 2817, Reauthorization of the Historic Preservation Fund

D. Policy Statement on the Role of Historic Preservation in Rebuilding Resilient Communities

V. Native American Affairs Committee Activities

VI. New Business

VII. Adjourn

The meetings of the ACHP are open to the public. If you need special accommodations due to a disability, please contact Cindy Bienvenue, 202-517-0202 or cbienvenue@achp.gov, at least seven (7) days prior to the meeting.

Authority: 54 U.S.C. 304102

Dated: June 25, 2015.
Javier E. Marques,
Associate General Counsel.

[FR Doc. 2015-16134 Filed 6-30-15; 8:45 am]

BILLING CODE 4310-K6-P